DEPARTMENT OF ENERGY

Federal Energy Regulatory Commission

[Docket Nos. CP22-21-000; CP22-21-001; CP22-22-000; CP22-22-001]

Venture Global CP2 LNG, LLC, Venture Global CP Express, LLC; Notice of Schedule for the Preparation of a Supplemental Environmental Impact Statement for the CP2 LNG Project and CP Express Pipeline Project

On June 27, 2024, the Federal Energy Regulatory Commission (Commission or FERC) issued an Order Granting Authorizations Under Sections 3 and 7 of the Natural Gas Act (Authorization Order) for Venture Global CP2 LNG, LLC's CP2 LNG Project and Venture Global CP Express, LLC's CP Express Pipeline Project.¹ On July 29, 2024, a coalition of petitioners (Petitioners) filed a timely request for rehearing and motion for stay of the Authorization Order. On November 27, 2024, the Commission issued an Order Addressing Arguments Raised on Rehearing And Setting Aside Prior Order, In Part (Rehearing Order).² The Rehearing Order set aside the Authorization Order, in part, regarding the Commission's analysis of the cumulative air quality impacts specific to the projects' nitrogen dioxide (NO2) and particles with an aerodynamic diameter of less than or equal to 2.5 microns (PM2.5) emissions, for the purpose of conducting additional environmental review in light of an opinion issued by the U.S. Court of Appeals for the District of Columbia Circuit.³ The Rehearing Order further stated that these issues and other air quality issues raised on rehearing by Petitioners will be addressed in a future order to be issued upon completion of an environmental review, as described below.

¹ Venture Global CP2 LNG, LLC, 187 FERC ¶ 61,199 (2024).

² Venture Global CP2 LNG, LLC, 189 FERC ¶ 61,148 (2024).

³ See Healthy Gulf v. FERC, 107 F.4th 1033 (D.C. Cir. 2024).

Schedule for Environmental Review

This notice identifies the planned schedule for the completion of a supplemental environmental impact statement (SEIS) for the projects to address the issues related to the Commission's analysis of the cumulative air quality impacts specific to the projects' NO2 and PM2.5 emissions, as raised by Petitioners.⁴

⁴ In accordance with the Council on Environmental Quality's regulations, the unique identification number for documents relating to this environmental review is SEIS-019-20-000-1732105621. 40 CFR 1501.5(c)(4) (2024).

This planned schedule is based on issuance of the draft SEIS in February 2025, opening a 45-day comment period.

Issuance of Notice of Availability of the final SEIS—May 9, 2025

This notice identifies the Commission's anticipated schedule for issuance of the final order for the projects, which serves as the Commission's record of decision. We currently anticipate issuing a final order for the projects no later than:

Issuance of Final Order—July 24, 2025

If a schedule change becomes necessary, additional notice will be provided.

Projects Description

The CP2 LNG Project includes a liquefaction plant with 20 million metric tons per annum (MTPA) of nameplate liquefaction capacity and a peak achievable capacity of 28 MTPA under optimal operating conditions consisting of eighteen liquefaction blocks, four aboveground full containment LNG storage tanks, and two marine LNG loading docks.

The CP Express Pipeline Project involves an approximately 85.4-mile-long mainline pipeline from Jasper County, Texas, to the LNG Project in Cameron Parish, Louisiana, an approximately 6.0-mile-long lateral pipeline in Calcasieu Parish, Louisiana, and associated aboveground facilities in Louisiana and Texas. The pipeline project is designed to transport feed gas to the CP2 LNG Project and will allow CP Express to provide up to 4,400,000 dekatherms per day of firm transportation service.

Background

On December 2, 2021, Venture Global CP2 LNG, LLC filed a request, in Docket No. CP22-21-000, under section 3 of the Natural Gas Act (NGA) and Part 153 of the Commission's regulations for authorization to site, construct, and operate the CP2 LNG Project, a new liquefied natural gas (LNG) export terminal in Cameron Parish, Louisiana.

In the same application, Venture Global CP Express, LLC filed a request, in Docket No. CP22-22-000, under NGA section 7(c) and Parts 157 and 284 of the Commission's regulations, for a certificate of public convenience and necessity to construct and operate the CP Express Pipeline Project, a new interstate natural gas pipeline system to connect the CP2 LNG Project to the existing natural gas pipeline grid in east Texas and southwest Louisiana.

The Commission issued a Notice of Availability of the Draft Environmental Impact Statement on January 19, 2023. On July 28, 2023, the final EIS was issued. As noted above, on June 27, 2024, the Commission issued an Authorization Order for the projects, agreeing with the conclusions presented in the final EIS.

Additional Information

In order to receive notification of the issuance of the SEIS and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings, the public is encouraged to contact OPP at (202) 502-6595 or OPP@ferc.gov.

Additional information about the projects is available from the Commission's Office of External Affairs at (866) 208-FERC or on the FERC website (www.ferc.gov). Using the “eLibrary” link, select “General Search” from the eLibrary menu, enter the selected date range and “Docket Number” excluding the last three digits (i.e., CP22-21 and CP22-22), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Debbie-Anne A. Reese,
Secretary.

[FR Doc. 2024-28409 Filed 12-3-24; 8:45 am]

BILLING CODE 6717-01-P